DEPARTMENT OF THE INTERIOR

National Park Service

[NPS-WASO-NAGPRA-NPS0023937; PPWOCRADN0-PCU00RP14.R50000]

Notice of Intent To Repatriate Cultural Items: U.S. Army Corps of Engineers, Omaha District, Omaha, NE

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by October 23, 2017.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the Omaha District, Omaha, NE, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1953, two cultural items were removed from the Cottonwood site (39HU43) in Hughes County, SD, and are presently located at the South Dakota State Archaeological Research Center (SARC), under the managerial control of the Omaha District. The Cottonwood site was excavated in 1953 by Wesley R. Hurt and Todd G. Willy. The excavation was a joint effort between the W.H. Over Museum-Vermillion, the South Dakota Archaeological Commission, and the U.S. National Park Service. At least two sets of human remains were recovered and stored at the W.H. Over Museum until 1974, when they were moved to SARC. In 1987, the University of Tennessee-Knoxville received the human remains and conducted an inventory before returning them to SARC in 1988. The human remains were then housed at SARC until May 20, 1994, when they were repatriated to the Sioux. SARC currently has two funerary objects that excavation records show as having been removed from the burial of a specific individual from site 39HU43. The two unassociated funerary objects are 1 unmodified wolf canine tooth and 1 ceramic body sherd.

The Cottonwood site (39HU43) is a farm settlement on a low terrace above the Missouri River that was probably occupied between 1870 and 1880, which falls into the Historic Sioux (Teton/Lakota) (1867-1900). Peoria Bottom was occupied in the early 1870s by 200 to 300 Native Americans, as well as by the first Protestant mission in the area, which included a boarding school for the Lakota Sioux. The Cottonwood site included 15 circular houses and several outdoor cache pit depressions. Three houses and one outdoor cache pit were excavated. The houses had basin-shaped tipi floors, in common with late-nineteenth century Lakota farm settlements. Gun cartridges were also recovered at the site, not in association with the burials, but which support the Historic Sioux occupation.

In 1962, six cultural items were removed from the Fort Thompson Burials II site (39BF10) in Buffalo County, SD, and are presently located at the South Dakota State Archaeological Research Center (SARC), under the managerial control of the Omaha District. The Fort Thompson Burials II site (39BF10) has six mound groups spread out along the left bank of the Missouri River on a terrace in the Big Bend area, downstream from Fort Thompson. Early in the 1960s, several burials were disturbed during construction of the Big Bend Dam. In December of 1962, Robert Grant and Joseph B. Brandon, State Archaeological Commission-Vermillion, SD, recovered the human remains and funerary objects. At least 4 sets of human remains were recovered. The human remains were stored at the W.H. Over Museum until 1974, when they were moved to the Office of the State Archaeologist (OSA) at Fort Meade. In 1979, the University of Tennessee-Knoxville received the human remains and conducted an inventory before returning them to the OSA. The human remains were then repatriated in 1982 to the Sioux. SARC currently holds six funerary objects that excavation records show as having been removed from the burial of a specific individual from site 39BF10. The six unassociated funerary objects are 2 linen textiles; 2 brass buttons; 1 wrought-iron coffin nail; and 1 bison femur fragment.

The Fort Thompson Burials II site (39BF10) was most likely occupied post-1860, which falls into the Early Reservation Period and is associated with the Crow Creek Indian Reservation, inhabited by the Santee and Winnebago, who were moved to Nebraska in the mid-1860s. In the 1870s, the reservation was inhabited by the Yanktonai. The unassociated funerary objects and manner of burial are most likely affiliated with the Yanktonai, who occupied the reservation for a longer period of time post-1860, than the Santee and Winnebago.

The Yanktonai today are represented by the Yankton Sioux Tribe of South Dakota. Consultation with the Yankton Sioux Tribe of South Dakota indicates that these kinds of funerary objects are placed with individuals at the time of death.

Determinations Made by the U.S. Army Corps of Engineers, Omaha District

Officials of the U.S. Army Corps of Engineers, Omaha District, have determined that:

• Pursuant to 25 U.S.C. 3001(3)(B), the 8 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Yankton Sioux Tribe of South Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by October 23, 2017. After that date, if no additional claimants have come forward, transfer of control of the unassociated funerary objects to the Yankton Sioux Tribe of South Dakota.

The U.S. Army Corps of Engineers, Omaha District, is responsible for notifying the Yankton Sioux Tribe of South Dakota that this notice has been published.

Dated: August 2, 2017.
Melanie O'Brien,
Manager, National NAGPRA Program.

[FR Doc. 2017-20295 Filed 9-21-17; 8:45 am]

BILLING CODE 4312-52-P